DEPARTMENT OF COMMERCE

National Oceanic and Atmospheric Administration

[Docket No. 000616180-4159-09; I.D. 070604B]

RIN 0648-ZA91

U.S. Climate Change Science Program Synthesis and Assessment Product Prospectus

AGENCY: National Oceanic and Atmospheric Administration (NOAA), Department of Commerce.

ACTION: Notice and request for public comment.

SUMMARY: The National Oceanic and Atmospheric Administration publishes this notice to announce the availability of the Prospectus (Prospectus) for the U.S. Climate Change Science Program (CCSP) Synthesis and Assessment Product addressing the CCSP Topic: “Temperature trends in the lower atmosphere-steps for understanding and reconciling differences” for public comment. This Prospectus describes plans for scoping, drafting, reviewing, producing, and disseminating the final synthesis and assessment product for the listed CCSP Topic.

DATES: Comments must be received by August 12, 2004.

ADDRESSES: The Prospectus is posted on the CCSP Program Office web site. The address to access the Prospectus is: http://www.climatescience.gov/Library/sap/sap1-1/sap1-1prospectus-draft.pdf. Detailed instructions for making comments on the Prospectus are provided on the CCSP web site; http://www.climatescience.gov/Library/sap/sap1-1/sap1-1prospectus-draft.htm. Please insure that submitted comments are prepared in accordance with these instructions.

FOR FURTHER INFORMATION CONTACT: Richard H. Moss, Ph.D., Director, Climate Change Science Program Office, 1717 Pennsylvania Avenue NW, Suite 250, Washington, DC 20006, Telephone: (202) 419-3476.

SUPPLEMENTARY INFORMATION: The CCSP, which was established by the President in 2002, coordinates and integrates scientific research on global change and climate change sponsored by 13 participating departments and agencies of the U.S. Government. The CCSP is charged with preparing information resources that support climate-related discussions and decisions, including scientific synthesis and assessment analyses that support evaluation of important policy issues. The Prospectus addressing the CCSP Topic: “Temperature trends in the lower atmosphere - steps for understanding and reconciling differences” is one of 21 such products that will be produced by the CCSP.

Dated: July 6, 2004.
James R. Mahoney,
Assistant Secretary of Commerce for Oceans and Atmosphere, Director, Climate Change Science Program.

[FR Doc. 04-15826 Filed 7-12-04; 8:45 am]

BILLING CODE 3510-KB-S